DEPARTMENT OF ENERGY

Office of Energy Efficiency and Renewable Energy

[Docket No. EERE-2015-BT-BC-0002]

DOE Participation in Development of the International Energy Conservation Code

AGENCY: Office of Energy Efficiency and Renewable Energy, Department of Energy.

ACTION: Notice.

SUMMARY: The U.S. Department of Energy (DOE) participates in the public process administered by the International Code Council (ICC), which produces the International Energy Conservation Code (IECC). DOE develops and publishes code change proposals for the IECC, prior to submitting them to the ICC, to allow interested parties an opportunity to suggest revisions, enhancements and comments. This notice outlines the process by which DOE produces its code change proposals for the IECC, and otherwise participates in the ICC code development process. This process will be used when DOE participates in the development of the 2018 IECC and other codes developed by the ICC.

DATES: DOE is requesting written comments on the proposed process by which DOE will develop code change proposals for submission to the ICC by May 14, 2015.

ADDRESSES: Any comments submitted must identify the Notice for DOE Participation in Development of the International Energy Conservation Code, and provide docket number EERE-2015-BT-BC-0002. Comments may be submitted by using either of the following methods:

1. Federal eRulemaking Portal: http://www.regulations.gov/#!docketDetail;D=EERE-2015-BT-BC-0002. Follow the instructions for submitting comments.

2. Email: IECC2015BC0002@ee.doe.gov. Include EERE-2015-BT-BC-0002 in the subject line of the message.

Instructions: All submissions received must include the agency name (U.S. DOE) and docket number. Additional information is included in the following sections.

FOR FURTHER INFORMATION CONTACT: Jeremiah Williams; U.S. Department of Energy, Office of Energy Efficiency and Renewable Energy, Building Technologies Office, EE-5B, 1000 Independence Avenue SW., Washington, DC 20585; Telephone: (202) 287-1941; Email: jeremiah.williams@ee.doe.gov.

For legal issues:

Kavita Vaidyanathan; U.S. Department of Energy, Office of the General Counsel, Forrestal Building, GC-33, 1000 Independence Avenue SW., Washington, DC 20585; Telephone: (202) 586-0669; Email: kavita.vaidyanathan@hq.doe.gov.

SUPPLEMENTARY INFORMATION:

Table of Contents

I. Introduction

A. Statutory Authority

B. Background

II. DOE Participation in the ICC Development Process

A. Technical Analysis

B. Proposal Development

C. ICC Public Hearings

III. Public Participation in the Development of DOE Proposals

A. Stakeholder Input

B. Ex-Parte Guidance

I. Introduction

The U.S. Department of Energy (DOE) supports the International Energy Conservation Code (IECC) by participating in the code development processes administered by the International Code Council (ICC). As a participant in this process, DOE considers and evaluates concepts to be submitted as proposed changes to the IECC (“code”). This Notice outlines the process by which DOE produces code change proposals and participates in the ICC code development process, including the 2018 IECC, as well as other codes published by the ICC.

A. Statutory Authority

Title III of the Energy Conservation and Production Act, as amended (ECPA), establishes requirements related to energy conservation standards for new buildings. (42 U.S.C. 6831-6837) Section 307 (b) of ECPA directs DOE to support voluntary building energy codes by periodically reviewing the technical and economic basis of the voluntary building codes, recommending amendments to such codes, seeking adoption of all technologically feasible and economically justified energy efficiency measures, and otherwise participate in any industry process for review and modification of such codes. (42 U.S.C. 6836(b))

B. Background

The DOE Building Energy Codes Program mission supports the development and implementation of model building energy codes and standards to achieve the maximum practicable and cost-effective improvements in energy efficiency, while providing safe, healthy buildings for occupants.¹ Part of this mission is directed at the IECC, which serves as a model energy code, and is adopted by many U.S. states, territories, the District of Columbia, and localities across the nation. The ICC administers development of the IECC through a public process, with revisions taking place every three years under the ICC governmental consensus process. As part of this process, any interested party can propose changes to the IECC, with proposed code changes subject to the bylaws, policies and procedures defined by the ICC.²

¹ See http://www.energycodes.gov/about.

² See http://www.iccsafe.org/cs/codes/pages/default.aspx.

II. DOE Participation in the ICC Development Process

The Department seeks to advance energy efficiency by cost-effectively strengthening the code and clarifying provisions to be more easily understood, implemented and enforced. DOE is directed to participate in the development of model building energy codes, such as the IECC, for residential and commercial buildings. DOE participates in the ICC development process by:

• Conducting technical analyses to identify concepts for consideration;

• Developing and submitting proposals based on concepts deemed credible and cost-effective; and

• Supporting proposals through the ICC public hearing process.

A. Technical Analyses

In preparation for the development of code change proposals, DOE conducts analyses to ensure that its proposals are technologically feasible and economically justified. DOE analyses will identify anticipated energy and economic savings impact associated with its energy savings concepts. This ensures that DOE proposals are cost-effective as defined by established, publicly reviewed DOE methodologies.³

³ See http://www.energycodes.gov/development.

Analyses performed by DOE or its contractors for the purposes of developing code change proposals are technical in nature. DOE is not obligated to conduct analyses for outside parties, but reserves the right to do so where it believes they will support DOE statutory obligations. In conducting such analyses, DOE does not represent or endorse particular individuals or organizations. DOE also cannot enter into joint code change proposals with the exception of proposals submitted jointly with another federal agency.

B. Proposal Development and Submission

Satisfactory concepts will be turned into draft code change proposals. To allow interested parties to comment, DOE will post these, along with supporting data and analyses, prior to submitting them to the ICC. DOE will modify its proposals as comments and new information become available; modified versions, with preceding versions of each proposal archived, and changes annotated between each version will also be posted. Final proposals will be clearly identified, and will be posted prior to submission to the ICC. All posted information will be available at http://www.energycodes.gov/development.

C. ICC Public Hearings

DOE maintains organizational membership with the ICC. As a Governmental Member, DOE intends to participate as defined by the guiding ICC rules and procedures, including participation in the ICC public hearings and exercising assigned voting privileges. At ICC hearings, DOE:

• Will present and defend its own proposals; and

• May present the results of technical analyses it has conducted, including analyses of other parties' proposals when it believes the development process will be improved by providing such information.

The presentation of a DOE proposal or technical analysis does not constitute an endorsement of any particular proposal or product. DOE may alter its proposals based on the procedural events of the official ICC hearing process without seeking further public comment. DOE may also seek additional public comment, such as in cases when a particular proposal is significantly modified for resubmission, following the ICC Committee Action Hearings.

III. Public Participation in the Development of DOE Proposals

A. Stakeholder Input

The public will have the following opportunities to provide DOE with input:

1. Comments on posted proposals and

2. Participation in public meetings.

Public Comment on DOE Proposals: DOE intends to make information available to the general public as it comes available. As information will be updated continually throughout the process, interested parties are urged to closely monitor the DOE Building Energy Codes Program Web page and stakeholder mailing lists to remain current with DOE activities. As materials will be posted over an extended period of time, the Web site will provide additional instructions on submitting comments on DOE proposals, including associated comment deadlines.

DOE will publish a notice in the Federal Register when its draft proposals and supporting materials begin to become available for public review. Note that DOE will not provide responses to individual public comments, but will consider all information received, and will incorporate all appropriate information into updated versions of its proposals. All DOE proposals and supporting documentation will be made available for review at http://www.energycodes.gov/development.

Participation in Public Meetings. DOE intends to convene one or more public meetings during each code cycle to present its proposals and supporting information, and to receive questions and feedback from interested and affected stakeholders. Such meetings will also be used to encourage and facilitate the free exchange of ideas, with the intent of improving proposals from all parties. DOE will both moderate and participate in these meetings. Note that DOE will not attempt to bring stakeholders to a consensus; rather DOE's role will be to increase understanding of the concepts discussed. These meetings will also be announced in the Federal Register.

B. Ex-Parte Guidance

DOE anticipates that it or its contractors may be contacted regarding code concepts, ideas or change proposals prior to and during the code hearings. While DOE code change proposals submitted to the ICC are not regulations, DOE will follow its ex parte communication policy for such communications prior to the code hearings. DOE guidance on ex parte communications was published on January 21, 2009 (74 FR 4685).⁴ As described in the guidance, individuals or entities that communicate with DOE or its contractors prior to the code hearing must provide a memorandum summarizing the communication, which will be included in the public docket consistent with the ex parte guidance.

⁴ See http://energy.gov/gc/downloads/guidance-ex-parte-communications.

During each ICC hearing process, DOE will maintain a published Web site containing submitted DOE proposals, which will also contain a link directed to the Web site and materials maintained by the ICC. DOE recognizes that the code development and public hearing process is based on processes established by the ICC, which do not constitute ex parte communications, and therefore, any discussions of the process at code hearings do not need to follow the guidance.

Issued in Washington, DC, on April 7, 2015.
David Cohan,
Manager, Building Energy Codes Program, Building Technologies Office, Energy Efficiency and Renewable Energy.

[FR Doc. 2015-08599 Filed 4-13-15; 8:45 am]

BILLING CODE 6450-01-P